DEPARTMENT OF THE INTERIOR

Fish and Wildlife Service

[FWS-R3-ES-2009-N0013]; [30120-1113-0000-C4]

Endangered and Threatened Wildlife and Plants; 5-Year Reviews

AGENCY: Fish and Wildlife Service, Interior.

ACTION: Notice of initiation of review; request for information on nine listed Midwestern species.

SUMMARY: We, the U.S. Fish and Wildlife Service (Service), initiate 5-year reviews of two threatened species (prairie bush-clover and Mead's milkweed) and seven endangered species [Scioto madtom, purple cat's paw pearlymussel, winged mapleleaf (mussel), Tumbling Creek cavesnail, Karner blue butterfly, Mitchell's satyr butterfly, and Michigan monkey-flower] under the Endangered Species Act of 1973, as amended (Act). We request any new information on each species that may have a bearing on its classification as endangered or threatened. Based on the results of these 5-year reviews, we will make a finding on whether these species are properly classified under the Act.

DATES: To allow us adequate time to conduct these reviews, we must receive your information no later than May 18, 2009. However, we will continue to accept new information about any listed species at any time.

ADDRESSES: For instructions on how to submit information and review the information that we receive on these species, see “Public Solicitation of New Information.”

FOR FURTHER INFORMATION CONTACT: Please contact the appropriate person under “Public Solicitation of New Information.” Individuals who are hearing impaired or speech impaired may call the Federal Relay Service at 800-877-8337 for TTY (telephone typewriter or teletypewriter) assistance.

SUPPLEMENTARY INFORMATION: We initiate 5-year reviews of the threatened prairie bush-clover (Lespedeza leptostachya) and threatened Mead's milkweed (Asclepias meadii), as well as the endangered Scioto madtom (Noturus trautmani), purple cat's paw pearlymussel (Epioblasma obliquata obliquata), winged mapleleaf (mussel) (Quadrula fragosa), Tumbling Creek cavesnail (Antrobia culveri), Karner blue butterfly (Lycaeides melissa samuelis), Mitchell's satyr butterfly (Neonympha mitchellii mitchellii), and Michigan monkey-flower (Mimulus glabratus var. michiganensis), under the Act.

We request any new information on each species that may have a bearing on its classification as endangered or threatened. Based on the results of these 5-year reviews, we will make a finding on whether these species are properly classified under the Act.

Why Do We Conduct a 5-Year Review?

Under the Act, we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. Therefore, we are requesting submission of any such information that has become available since the last formal status review on November 6, 1991 (56 FR 56882), for Scioto madtom, purple cat's paw pearlymussel, prairie bush-clover, Mead's milkweed and Michigan monkey-flower, and since the final rule listing (see Table 1) of winged mapleleaf mussel, Tumbling Creek cavesnail, Karner blue butterfly, and Mitchell's satyr butterfly. Based on the results of these 5-year reviews, we will make the requisite findings under section 4(c)(2)(B) of the Act.

Our regulations at 50 CFR 424.21 require that we publish a notice in the Federal Register announcing those species currently under review. This notice announces initiation of our active review of the species in Table 1.

Table 1—Summary of Listing Information, 6 Wildlife and 3 Plant Species in the Midwest Region
Common name | Scientific name | Status | Where listed | Final listing rule
Scioto madtom | Noturus trautmani | Endangered | U.S.A. (OH) | 40 FR 544149; 10/28/1975
Purple cat's paw pearlymussel | Epioblasma obliquata obliquata | Endangered | U.S.A. (AL, IL, IN, KY, OH, TN) | 55 FR 28209; 07/10/1990
Winged mapleleaf (mussel) | Quadrula fragosa | Endangered | U.S.A. (IA, IL, IN, KY, MN, MO, NE, OH, OK, TN, WI) | 56 FR 28345; 06/20/1991
Tumbling Creek cavesnail | Antrobia culveri | Endangered | U.S.A. (MO) | 67 FR 52879; 08/14/2002
Karner blue butterfly | Lycaeides melissa samuelis | Endangered | U.S.A. (IL, IN, MA, MI, MN, NH, NY, OH, PA, WI), Canada (Ont.) | 57 FR 59236; 12/14/1992
Mitchell's satyr butterfly | Neonympha mitchellii mitchellii | Endangered | U.S.A. (IN, MI, NJ, OH) | 57 FR 21564; 05/20/1992
Michigan monkey-flower | Mimulus glabratus var. michiganensis | Endangered | U.S.A. (MI) | 55 FR 25596; 06/21/1990
Prairie bush-clover | Lespedeza leptostachya | Threatened | U.S.A. (IA, IL, MN, WI) | 52 FR 781; 01/09/1987
Mead's milkweed | Asclepias meadii | Threatened | U.S.A. (IA, IL, IN, KS, MO, WI) | 53 FR 33992; 09/01/1988

What Information Do We Consider in Our Review?

In our 5-year review, we consider all new information available at the time of the review. These reviews will consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the wildlife species Scioto madtom, purple cat's paw pearlymussel, winged mapleleaf (mussel), Tumbling Creek cavesnail, Karner blue butterfly, and Mitchell's satyr butterfly, and of the plant species prairie bush-clover, Mead's milkweed, and Michigan monkey-flower. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so.

Submit all electronic information in Text or Rich Text format to FW3MidwestRegion_5YearReview@fws.gov. Please send information for each separate species in a separate e-mail. Provide your name and return address in the body of your message, and include the following identifier in your e-mail subject line: Information on 5-year review for [NAME OF SPECIES]. You may also view information we receive in response to this notice, as well as other documentation in our files, at the locations below by appointment, during normal business hours. Mail or hand-deliver information on the following species to the appropriate address(es) below:

Scioto madtom and Purple cat's paw pearlymussel: U.S. Fish and Wildlife Service, Ecological Services Field Office, 4625 Morse Road, Suite 104, Columbus, OH 43230; Attention: Ms. Angela Boyer. Direct inquiries to Ms. Boyer at 614-416-8993 (phone) or angela_boyer@fws.gov (e-mail).

Winged mapleleaf (mussel) and Prairie bush-clover: U.S. Fish and Wildlife Service, Ecological Services Field Office, 4101 E. 80th Street, Bloomington, MN 55425-1665, Attention: Mr. Phil Delphey. Direct inquiries to Mr. Delphey at 612-725-3548 (phone) or phil_delphey@fws.gov (e-mail).

Tumbling Creek cavesnail: U.S. Fish and Wildlife Service, Ecological Services Field Office, 101 Park DeVille Drive, Suite A, Columbia, MO 65203-0057; Attention: Dr. Paul McKenzie. Direct inquiries to Dr. McKenzie at 573-234-2132, extension 107 (phone) or paul_mckenzie@fws.gov (e-mail).

Karner blue butterfly: U.S. Fish and Wildlife Service, Ecological Services Field Office, 2661 Scott Tower Drive, New Franken, WI 54229-9565; Attention: Ms. Cathy Carnes. Direct inquiries to Ms. Carnes at 920-866-1732 (phone) or cathy_carnes@fws.gov (e-mail).

Mitchell's satyr butterfly: U.S. Fish and Wildlife Service, Ecological Services Field Office, 2651 Coolidge Road, Suite 101, East Lansing, MI 48823-5902; Attention: Ms. Carrie Tansy. Direct inquiries to Ms. Tansy at 517-351-6289 (phone) or carrie_tansy@fws.gov (e-mail).

Mead's milkweed: U.S. Fish and Wildlife Service, Ecological Services Field Office, 1250 S. Grove Avenue, Suite 103, Barrington, IL 60010-5010; Attention: Mr. Kristopher Lah. Direct inquiries to Mr. Lah at 847-381-2253, extension 15 (phone) or kristopher_lah@fws.gov (e-mail).

Michigan monkey-flower: U.S. Fish and Wildlife Service, Ecological Services Field Office, 2651 Coolidge Road, Suite 101, East Lansing, MI 48823-5902; Attention: Ms. Tameka Dandridge. Direct inquiries to Ms. Dandridge at 517-351-8315 (phone) or tameka_dandridge@fws.gov (e-mail).

How Are These Populations Currently Listed?

Table 1 provides current listing information. Also, the List, which covers all listed species, is available on our Internet site at http://endangered.fws.gov/wildlife.html#Species.

Definitions

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For the species under review, if we find new information that indicates a change in classification may be warranted, we may propose a new rule that could do one of the following: (a) Reclassify the species from threatened to endangered (uplist); (b) reclassify the species from endangered to threatened (downlist); or (c) remove the species from the List (delist).

If we determine that a change in classification is not warranted, then the species will remain on the List under its current status.

Authority

We publish this document under the authority of the Endangered Species Act of 1973, as amended (16 U.S.C. 1531 et seq.).

Dated: February 20, 2009.
Lynn M. Lewis,
Assistant Regional Director, Ecological Services, Midwest Region.

[FR Doc. E9-5805 Filed 3-17-09; 8:45 am]

BILLING CODE 4310-55-P